ENVIRONMENTAL PROTECTION AGENCY

[EPA-HQ-OPP-2005-0163; FRL-8848-1]

Aldicarb; Notice of Receipt of Request to Voluntarily Cancel a Pesticide Registration

AGENCY: Environmental Protection Agency (EPA).

ACTION: Notice.

SUMMARY: In accordance with section 6(f)(1) of the Federal Insecticide, Fungicide, and Rodenticide Act (FIFRA), as amended, EPA is issuing a notice of receipt of a request by the registrant to voluntarily cancel all of the registrations for aldicarb products held by Bayer CropScience. The request asks for the deletion at various times of aldicarb use in or on citrus, cotton, dry beans, peanuts, potatoes, soybeans, sugar potatoes, sugar beets, and sweet potatoes. Because these uses constitute all the remaining uses of aldicarb, Bayer's request would result in the termination of the last aldicarb product registered for use in the United States. EPA intends to grant this request at the close of the comment period for this announcement unless the Agency receives substantive comments within the comment period that would merit its further review of the request. If this request is granted, any sale, distribution, or use of products listed in this notice will be permitted after the registration has been canceled only if such sale, distribution, or use is consistent with the terms as described in the final order.

DATES: Comments must be received on or before November 8, 2010.

ADDRESSES: Submit your comments, identified by docket identification (ID) number EPA-HQ-OPP-2005-0163, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2005-0163. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: K. Avivah Jakob, Pesticide Re-evaluation Division (7508P), Office of Pesticide Programs, Environmental Protection Agency, 1200 Pennsylvania Ave., NW., Washington, DC 20460-0001; telephone number: (703) 305-1328; fax number: (703) 308-6467; e-mail address: jakob.kathryn@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests To Cancel and/or Amend Registrations To Delete Uses

This notice announces receipt by EPA of a request from the registrant Bayer CropScience LLP (Bayer) to voluntary cancel their remaining registration for aldicarb and to terminate all uses of aldicarb. Aldicarb is registered for use as a systemic insecticide and nematicide on the following agricultural crops: citrus, cotton, dry beans, peanuts, potatoes, soybeans, sugar beets, and sweet potatoes. Aldicarb products are not intended for sale to homeowners or for use in residential settings. To address dietary risks of concern identified in EPA's Revised Aggregate Dietary Risk Assessment of Aldicarb (August 4, 2010), Bayer has voluntary requested to cancel their existing FIFRA registration for Temik® 15G aldicarb end-use product, EPA Registration No. 264-330. EPA's revised risk assessment can be found by going to the aldicarb reregistration status Web page at: http://www.epa.gov/pesticides/reregistration/aldicarb/. Bayer requests pursuant to section 6(f) of FIFRA, that EPA cancel the pesticide uses for citrus and potatoes effective immediately. Bayer also requests cancellation of the remaining pesticide uses (cotton, dry beans, peanuts, soybeans, sugar beets, and sweet potatoes) effective as of December 31, 2014. The action on the registrant's request will terminate the last aldicarb pesticide products registered in the United States. For further information please refer to the Memorandum of Agreement Between the Environmental Protection Agency and Bayer CropScience, Regarding the Registration of Pesticide Product Containing Aldicarb, signed August 16, 2010, and Bayer's Request to Voluntarily Cancel Use on Citrus and Potatoes (August 11, 2010) which are located in the docket and on the aldicarb reregistration status Web page at: https://www.regulations.gov and http://www.epa.gov/pesticides/reregistration/aldicarb/. In addition, Bayer has requested that EPA waive the 180-day comment period section 6(f) of FIFRA otherwise provides for requests to cancel minor uses.

III. What action is the agency taking?

This notice announces receipt by EPA of a request from Bayer CropScience to cancel all remaining aldicarb product registrations. The affected product and the address of the registrant making the request are identified in Tables 1 and 2 of this unit.

Unless the Agency determines that there are substantive comments that warrant further review of this request, EPA intends to issue an order canceling the affected registration.

Table 1—Aldicarb Product Registration With Pending Request for Cancellation
Registration No. | Product name | Company
264-330 | TEMIK® brand 15G | Bayer CropScience LLC.

Table 2 of this unit includes the name and address of record for the registrant of the product listed in Table 1 of this unit.

Table 2—Registrant Requesting Voluntary Cancellation and/or Amendments
EPA Company No. | Company name and address
264 | Bayer CropScience, 2 T.W. Alexander Drive, P.O. Box 12014, Research Triangle Park, NC 27709.

IV. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrant request a waiver of the comment period, or

2. The EPA Administrator determines that continued use of the pesticide would pose an unreasonable adverse effect on the environment.

The aldicarb registrant has requested that EPA waive the 180-day comment period. Accordingly, EPA will provide a 30-day comment period on the proposed requests.

V. Provisions for Disposition of Existing Stocks

Existing stocks are those stocks of registered pesticide products that are currently in the United States and that were packaged, labeled, and released for shipment prior to the effective date of the action. If the request for voluntary cancellation of the remaining aldicarb product registration and all aldicarb uses is granted, the Agency intends to publish the cancellation order in the Federal Register.

In any order issued in response to this request for cancellation of a product registration EPA currently intends to include the following provisions for the treatment of any existing stocks of the product listed in Table 1 of Unit III. Existing stocks of aldicarb may be sold by retailers, and used on citrus and potatoes until December 31, 2011.

Sale and distribution of aldicarb end-use product for use on cotton, dry beans, peanuts, soybeans, sugar beets, and sweet potatoes will be permitted until December 31, 2016. Existing stocks of any end-use product on these remaining uses may be used until August 31, 2018.

List of Subjects

Environmental protection, Pesticides and pests, Aldicarb.

Dated: September 29, 2010.
Richard P. Keigwin, Jr,
Director, Pesticide Re-Evaluation Division, Office of Pesticide Programs.

[FR Doc. 2010-25128 Filed 10-6-10; 8:45 am]

BILLING CODE 6560-50-P